DEPARTMENT OF HEALTH AND HUMAN SERVICES

National Institutes of Health

Submission for OMB Review; Comment Request, NCI Cancer Information Service Demographic/Customer Service Data Collection

SUMMARY: Under the provisions of Section 3506(c)(2)(A) of the Paperwork Reduction Act of 1995, the National Cancer Institute (NCI), the National Institutes of Health (NIH) has submitted to the Office of Management and Budget (OMB) a request to review and approve the information collection listed below. This proposed information collection was previously published in the Federal Register on February 7, 2000, Vol. 65, No. 25, page 5873-5874 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: NCI Cancer Information Service Demographic/Customer Service Data Collection. Type of Information Collection Request: Revision. OMB No. 0925-0208 expires October 2000. Need and Use of Information Collection: The Cancer Information Service (CIS) provides the general public, cancer patients, families, health professionals, and others with the latest information on cancer. Essential to providing the best customer service is the need to collect data about callers and web users and how they found out about the service. This effort involves a telephone survey and a web survey. The telephone survey involves asking seven questions to five categories of callers for an annual total of approximately 500,430 callers. Three of the seven questions will be asked to 100% of five categories of callers for an annual total of approximately 333,620 callers; four questions will be asked to 50% of the same five categories of callers for an annual total of approximately 166,810 callers. The web survey involves asking eight questions to an annual total of approximately 75,266 voluntary users of the CIS web site. Frequency of Response: Single time. Affected Public: Individuals or households. Type of Respondents: Patients, relatives, friends, and general public. The annual reporting burden is as follows: Estimated Number of Respondents: 500,430 callers and 75,266 web users; Estimated Number of Responses per Respondent: 1; Average Burden Hours per Response: Telephone—.00328 and .0083 and Web—.0137; and Estimated Total Annual Burden Hours Requested: Telephone—2,479 and Web—1,031. The annualized cost to respondents is estimated at: $42,120. There are no Capital Costs to report. There are no Operating or Maintenance Costs to report.

Type of respondents | Estimated number of respondents | Estimated number of responses per respondent | Average burden hours per response | Estimated total annual burden hours requested
Individuals or households
Telephone:
—3 questions (100%) | 333,620 | 1 | 0.00328 | 1,094
—4 questions (50%) | 166,810 | 1 | 0.0083 | 1,385
Web:
—8 questions (100%) | 75,266 | 1 | 0.0137 | 1,031
Annualized Totals | 575,696 |  |  | 3,510

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Chris Thomsen, Chief, Cancer Information Service Branch, OC, OD, NCI, Building 31, Room 10A16, 9000 Rockville Pike, Bethesda, MD 20892, or call non-toll-free number (301) 496-5583 ext. 239 or E-mail your request, including your address to: thomsenc@mail.nih.gov.

Comments Due Date

Comments regarding this information collection are best assured of having their full effect if received on or before September 18, 2000.

Dated: August 7, 2000.
Reesa Nichols,
OMB Clearance Liaison.

[FR Doc. 00-20924 Filed 8-16-00; 8:45 am]

BILLING CODE 4140-01-M